ENVIRONMENTAL PROTECTION AGENCY

[FRL-8581-5]

Science Advisory Board Staff Office; Notification of Two Public Teleconferences of the Science Advisory Board Drinking Water Committee

AGENCY: Environmental Protection Agency (EPA).

ACTION: Notice.

SUMMARY: The Environmental Protection Agency (EPA) Science Advisory Board (SAB) Staff Office announces two public teleconferences of the SAB Drinking Water Committee (DWC) to provide technical comments on EPA's proposed Aircraft Drinking Water Rule.

DATES: The SAB will hold two public teleconferences on July 24 and 25, 2008. The teleconference on Thursday, July 24, 2008, will begin at 1 p.m. and end at 5 p.m. (Eastern Time). The teleconference on Friday, July 25, 2008, will begin at 2 p.m. and end at 5 p.m. (Eastern Time).

Location: The July 24 and 25, 2008, teleconferences will be conducted by telephone only.

FOR FURTHER INFORMATION CONTACT: Any member of the public wishing to obtain general information concerning the two public teleconferences, including call-in phone numbers, should contact Dr. Resha M. Putzrath, Designated Federal Officer (DFO), EPA Science Advisory Board (1400F), U.S. Environmental Protection Agency, 1200 Pennsylvania Avenue, NW., Washington, DC 20460; via telephone/voice mail: (202) 343-9978; fax: (202) 233-0643; or e-mail at putzrath.resha@epa.gov. General information concerning the EPA Science Advisory Board can be found on the SAB Web site at http://www.epa.gov/sab.

SUPPLEMENTARY INFORMATION: The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies. Pursuant to FACA, Public Law 92-463, notice is hereby given that the EPA SAB Drinking Water Committee will hold two public teleconferences to provide technical advice on EPA's proposed Aircraft Drinking Water Rule (ADWR).

Background: EPA's Office of Water has asked the SAB Drinking Water Committee to conduct a consultation on a proposed Aircraft Drinking Water Rule. Under the Safe Drinking Water Act, any interstate carrier conveyance (ICC) that regularly serves drinking water to an average of at least 25 individuals daily, at least 60 days per year, is subject to the National Primary Drinking Water Regulations (NPDWR). EPA is responsible for developing and implementing the NPDWRs for all public water systems, including public water systems on ICCs. The existing NPDWRs were designed for traditional, stationary public water systems, not mobile aircraft water systems that are operationally different. EPA has proposed an ADWR that addresses onboard water systems for aircraft within U.S. jurisdiction in the Federal Register (73 FR 19320-19348).

Availability of Meeting Materials: The meeting agendas and other materials will be posted on the SAB Web site at http://www.epa.gov/sab in advance of the meeting. The proposed ADWR can be found at http://www.epa.gov/safewater/airlinewater/index2.html. For questions and information concerning the proposed ADWR, please contact Mr. Richard Naylor at 202-564-3847 or naylor.richard@epa.gov.

Procedures for Providing Public Input: Interested members of the public may submit relevant written or oral information for the Drinking Water Committee to consider throughout the advisory process. Oral Statements: In general, individuals or groups requesting an oral presentation at a public SAB teleconference will be limited to three minutes per speaker, with no more than a total of one-half hour for all speakers. To be placed on the public speaker list, interested parties should contact Dr. Resha M. Putzrath, DFO, in writing via e-mail, by July 14, 2008, at the contact information noted above.

Written Statements: Written statements should be received in the SAB Staff Office by July 14, 2008, so that the information may be made available to the SAB DWC for their consideration prior to the teleconferences. Written statements should be supplied to the DFO via e-mail to putzrath.resha@epa.gov (acceptable file format: Adobe Acrobat PDF, WordPerfect, MS Word, MS PowerPoint, or Rich Text files in IBM-PC/Windows 98/2000/XP format).

Accessibility: For information on access or services for individuals with disabilities, please contact Dr. Resha M. Putzrath at (202) 343-9978 or putzrath.resha@epa.gov. To request accommodation of a disability, please contact Dr. Putzrath, preferably at least ten days prior to the meeting, to give EPA as much time as possible to process your request.

Dated: June 11, 2008.
Vanessa T. Vu,
Director, EPA Science Advisory Board Staff Office.

[FR Doc. E8-13833 Filed 6-17-08; 8:45 am]

BILLING CODE 6560-50-P